DEPARTMENT OF THE INTERIOR

National Park Service

[NPS-WASO-NAGPRA-NPS0037481; PPWOCRADN0-PCU00RP14.R50000]

Notice of Inventory Completion: State University of New York Potsdam, Department of Anthropology, Potsdam, NY

AGENCY: National Park Service, Interior.

ACTION: Notice.

SUMMARY: In accordance with the Native American Graves Protection and Repatriation Act (NAGPRA), the State University of New York Potsdam (SUNY Potsdam), Department of Anthropology, has completed an inventory of human remains and associated funerary objects and has determined that there is a cultural affiliation between the human remains and associated funerary objects and Indian Tribes or Native Hawaiian organizations in this notice. The human remains and associated funerary objects were removed from St. Lawrence County, NY.

DATES: Repatriation of the human remains and associated funerary objects in this notice may occur on or after March 29, 2024.

ADDRESSES: Hadley Kruczek-Aaron, SUNY Potsdam, Department of Anthropology, 44 Pierrepont Avenue, Potsdam, NY 13676, telephone (315) 267-2072, email kruczehf@potsdam.edu.

SUPPLEMENTARY INFORMATION: This notice is published as part of the National Park Service's administrative responsibilities under NAGPRA. The determinations in this notice are the sole responsibility of the SUNY Potsdam, Department of Anthropology. The National Park Service is not responsible for the determinations in this notice. Additional information on the determinations in this notice, including the results of consultation, can be found in the inventory or related records held by the SUNY Potsdam, Department of Anthropology.

Description

Human remains representing, at minimum, one individual were removed from St. Lawrence County, NY. In the summer of 1979, SUNY Potsdam archeologist Garrett Cook conducted an archeology field school at the so-called Lee site, which has been dated to the Early and Middle Woodland periods. The excavation took place largely in what had become a highly disturbed plow zone. During the excavation, no intact burial was discerned and, owing to their highly fragmentary condition, human bones were not differentiated from animal bones. Nevertheless, Cook suspected that burials lay nearby and, as a result, he ceased the excavation. The excavated assemblage from the Lee site became part of the SUNY Potsdam archeological collections. After realizing that there were human remains and associated funerary objects in this assemblage, in the spring of 2022, current SUNY Potsdam archeologists initiated the NAGPRA inventory process. The 42 associated funerary objects are one popeyed birdstone, three Meadowood cache blades, three Meadowood bifaces, two chert bifaces (one of them glued), one triangular chert biface, one medial chert biface, four proximal biface fragments, one partial groundstone axe (partially glued), one drill fragment, one quartz projectile point, one possible Meadowood projectile point, one distal biface fragment (possibly Meadowood), one proximal biface fragment (possibly Meadowood), six small projectile points (mostly chert), one ovate projectile point, eight scrapers, one soapstone bead, one bone pottery decorating tool, one antler tine, one lot consisting of miscellaneous lithics (mostly debitage; N = 2,739), one lot consisting of ceramic sherds (some glued; N = 1,499 fragments), and one lot consisting of faunal remains (N = 655 fragments).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and oral traditional.

Determinations

Pursuant to NAGPRA and its implementing regulations, and after consultation with the appropriate Indian Tribes and Native Hawaiian organizations, the SUNY Potsdam, Department of Anthropology has determined that:

• The human remains described in this notice represent the physical remains of one individual of Native American ancestry.

• The 42 objects described in this notice are reasonably believed to have been placed with or near individual human remains at the time of death or later as part of the death rite or ceremony.

• There is a relationship of shared group identity that can be reasonably traced between the human remains and associated funerary objects described in this notice and the Oneida Indian Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, the SUNY Potsdam Department of Anthropology must determine the most appropriate requestor prior to repatriation. Requests for joint repatriation of the human remains and associated funerary objects are considered a single request and not competing requests. The SUNY Potsdam Department of Anthropology is responsible for sending a copy of this notice to the Indian Tribe identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04095 Filed 2-27-24; 8:45 am]

BILLING CODE 4312-52-P